DEPARTMENT OF STATE

[Public Notice 6229]

Bureau of Educational and Cultural Affairs' Strategic Objectives

DATES: The Department will accept comments from the public up to July 18, 2008.

ADDRESSES: You may submit comments, identified by any of the following methods:

• Persons with access to the Internet may view this notice and provide comments by going to the regulations.gov Web site at: http://www.regulations.gov/index.cfm.

• Mail (paper, disk, or CD-ROM submissions): U.S. Department of State, Office of the Assistant Secretary for Education and Cultural Affairs, SA-44, 301 4th Street, SW., Room 800, Washington, DC 20547.

• E-mail: ExchangesDirect@state.gov. You must include the Title in the subject line of your message.

SUMMARY: The Bureau of Educational and Cultural Affairs (ECA), under the authority of the Mutual Educational and Cultural Exchange Act of 1961, as amended (Fulbright/Hays) and in furtherance of the official mission of the U.S. Department of State, fosters mutual understanding between the United States and other countries through international educational, professional and cultural programs. The Bureau does so by promoting personal, professional, and institutional ties between private citizens and organizations in the United States and abroad, as well as by presenting U.S. society and culture in all of its diversity to overseas audiences.

The strategic objective of the Bureau is to assist in the development of friendly, sympathetic, and peaceful relations between the United States and other countries of the world by establishing and furthering common interests and common values between Americans and people of different countries, cultures and faiths. To this end, the Bureau designs and implements programs that build personal and institutional relationships and that engage educational institutions and the private sector as partners on key public diplomacy initiatives. An overview of significant current and emerging initiatives is set forth below and is offered to fully inform the public and interested members of the philanthropic, corporate and NGO communities of our strategic objectives and priorities. We would like to encourage individuals, organizations and companies to consider ways in which they might provide support so that we can better achieve our goals and objectives. We would welcome initiation of independent programs supportive of our objectives, and partnerships in appropriate cases.

English Language and Youth Leadership: Our Academic programs place special attention on youth-focused English language initiatives. Demand for English language instruction is increasing around the world and matches young people's keen interest in expanding their horizons. Acquisition of English language ability not only makes young men and women more competitive in life, but guarantees them the ability to access materials on America and American values. Professional and Citizen Exchange programs, including cultural and sports programs, reach out directly to youth audiences as well as those individuals and institutions that work with young people.

We also increase cultural awareness and mutual understanding among successor generations by expanding youth exchanges to communities traditionally underserved by exchanges by conducting programs to help youth around the world learn about the values of a civil society, independent thinking, and citizen engagement. Our models for exchanges include: Youth Exchange and Study (YES), Future Leaders Exchange (FLEX), summer institutes, Congress-Bundestag Youth Exchange (CBYX), and the Global Connections school connectivity projects.

Partnerships for Latin American Youth: These initiatives bring students from underserved communities in the Western Hemisphere to U.S. community colleges; expand the English Access Microscholarship Program to Western Hemisphere countries; provide study opportunities for indigenous and disadvantaged undergraduate student leaders, including women, and for English-speaking youth from diverse communities who have emerged as leaders to learn about U.S. society, culture and values.

Promoting Foreign Languages—National Security Language Initiative (NSLI): The NSLI is designed to dramatically increase the number of Americans learning critical need foreign languages such as Arabic, Chinese, Russian, Hindi, and Farsi through new and expanded programs from kindergarten through university and into the workforce. An essential component of U.S. national security in the post-9/11 world is the ability to engage foreign governments and peoples, especially in critical regions, to promote understanding, convey respect for other cultures and provide an opportunity to learn more about our country and its citizens. To do this, we must be able to communicate in other languages.

Performance & Alumni: Evaluation and performance measurement are essential to productive exchanges. As we involve younger, more diverse and less traditional audiences, we must assess the impact of our programs on attitudes and behavior. The Bureau's alumni programs seek to build on the exchange experience by engaging with the participants in our programs after they have returned home.

The Bureau directly funds programs that annually facilitate more than 30,000 U.S. and foreign exchange participants in over 170 countries. Of equal importance are the alumni engagement efforts of the Bureau's designated private sector exchange programs. These private sector entities have now programmed more than 10 million exchange participants heavily concentrated in the fields of science and research, or who were foreign university students at the time of their exchange.

Programs for possible public-private collaboration include the following:

English Access Micro Scholarship Program and English Learning Online: The English Access Micro Scholarship Program, conducted pursuant to Fulbright-Hays Act authorities to conduct educational information and resources programs, teaches English to high school students from disadvantaged sectors. Thus far, “Access” has reached 32,000 students in 50 countries, including many with significant Muslim populations. Students' improved English has led to better job and educational opportunities and the ability to compete for exchange opportunities in the U.S. “Access” is the first step in ECA's continuum of educational opportunities to reach disadvantaged young people around the world.

A possible companion program to the English Access Microscholarship Program is English Learning Online. This program, still in development, would provide quality English language lessons online for foreign students overseas while also providing an introduction to leadership, civic training, and community building. Private sector partnering opportunities could include both in-kind contributions of production services for video, animation, DVDs, textbooks, and other instructional aids, as well as funding.

The Benjamin A. Gilman International Scholarship Program: Educational exchange activities are at the core of our public diplomacy efforts, and large multi-national corporations are likely donors to, and partners for, our various initiatives. The Benjamin A. Gilman International Scholarship Program supports study abroad by a diverse group of U.S. undergraduate students with limited financial means, many venturing to “non-traditional” destinations outside Western Europe.

Community College Summit Initiative: The Community College Initiative Program brings young people from non-elite and under-represented sectors from six countries to the U.S. to study at community colleges while also learning about leadership, democracy, civic participation and other aspects of U.S. culture. This is the perfect opportunity to support local community colleges while building an appropriate workforce around the world.

International Fulbright Science and Technology (S&T) Award: The International Fulbright S&T Award is a globally-competed initiative designed to attract outstanding foreign students to the U.S. for Ph.D. study in science and technology.

Rhythm Road: American Music Abroad: Rhythm Road sends American urban music and jazz groups on tour throughout the world. ECA expects to launch a similar program for dance troupes. We anticipate that large corporations and foundations that include culture in their sphere of charitable giving may be interested in partnering to further these activities.

Global Connections and Exchange Program: The Global Connections and Exchange Program provides secondary school teachers in select countries overseas with specialized training in computer applications, Web development and the use of the Internet to enhance their daily lessons. The program empowers youth to use technology to tackle universal issues, such as gender equity, the environment, HIV/AIDS, diversity and human rights.

The Bureau welcomes the views of the philanthropic, corporate and NGO communities on these initiatives and the potential for strategic partnership in achieving them. This certification will be published in the Federal Register.

Goli Ameri,
Assistant Secretary for Educational and Cultural Affairs, Department of State.

[FR Doc. E8-11029 Filed 5-16-08; 8:45 am]

BILLING CODE 4710-05-P